ENVIRONMENTAL PROTECTION AGENCY

[OPP-100154; FRL-6487-2]

Lockheed Martin; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be tranferred to Lockheed Martin in accordance with 40 CFR 2.307(h)(3) and 2.308(i)(2). Lockheed Martin has been awarded multiple contracts to perform work for OPP, and access to this information will enable Lockheed Martin to fulfill the obligations of the contract.

DATES: Lockheed Martin will be given access to this information on or before January 24, 2000.

FOR FURTHER INFORMATION CONTACT: By mail: Erik R. Johnson, FIFRA Security Officer, Information Resources and Services Division (7502C), Office of Pesticide Programs, Environmental Protection Agency, 401 M St., SW., Washington, DC 20460; telephone number: 703-305-7248; e-mail address: johnson.erik@epa.gov.

SUPPLEMENTARY INFORMATION:

I. General Information

A. Does this Action Apply to Me?

This action applies to the public in general. As such, the Agency has not attempted to describe all the specific entities that may be affected by this action. If you have any questions regarding the applicability of this action to a particular entity, consult the person listed in the “FOR FURTHER INFORMATION CONTACT.”

B. How Can I Get Additional Information, Including Copies of this Document and Other Related Documents?

You may obtain electronic copies of this document, and certain other related documents that might be available electronically, from the EPA Internet Home Page at http://www.epa.gov/. To access this document, on the Home Page select “Laws and Regulations” and then look up the entry for this document under the “Federal Register--Environmental Documents.” You can also go directly to the Federal Register listings at http://www.epa.gov/fedrgstr/.

II. Contractor Requirements

Under Contract No. 68-W7-0055, the contractor will extract data from pesticide registration forms. This project requires the integration of the DataCap Tool set and forms recognition capabilities into the existing imaging application. The new system will utilize DataCap Task Master and Paper keyboard software for design of the application for extracting data from the pesticide registration. Once the application has been designed, implemented, and tested, the Lockheed Martin Technical Image Technology Support Staff will be responsible for maintaining the application, inclusive of enhancements, updates, error correction and monitoring application for performance and ensuring that the application meets requirements defined by OPP.

This contract involves no subcontractors.

OPP has determined that the contract described in this document involved work that is being conducted in connection with FIFRA, in that pesticide chemicals will be the subject of certain evaluations to be made under this contract. These evaluations may be used in subsequent regulatory decisions under FIFRA.

Some of this information may be entitled to confidential treatment. The information has been submitted to EPA under sections 3, 4, 6, and 7 of FIFRA and under sections 408 and 409 of the FFDCA.

In accordance with the requirements of 40 CFR 2.307(h)(3), the contract with Lockheed Martin, prohibits use of the information for any purpose not specified in this contract; prohibits disclosure of the information to a third party without prior written approval from the Agency; and requires that each official and employee of the contractor sign an agreement to protect the information from unauthorized release and to handle it in accordance with the FIFRA Information Security Manual. In addition, Lockheed Martin, is required to submit for EPA approval a security plan under which any CBI will be secured and protected against unauthorized release or compromise. No information will be provided to Lockheed Martin until the requirements in this document have been fully satisfied. Records of information provided to Lockheed Martin will be maintained by EPA Project Officers for this contract. All information supplied to Lockheed Martin by EPA for use in connection with this contract will be returned to EPA when Lockheed Martin has completed its work.

List of Subjects

Environmental protection, Business and industry, Government contracts, Government property, Security measures.

Dated: January 6, 2000.
Joanne Martin,
Acting Director, Information Resources and Services Division, Office of Pesticide Programs.

[FR Doc. 00-1216 Filed 1-18-00; 8:45 am]

BILLING CODE 6560-50-F